DEPARTMENT OF DEFENSE

Office of the Secretary

Defense Science Board

AGENCY: Department of Defense.

ACTION: Notice of advisory committee meeting date change.

SUMMARY: On Thursday, June 19, 2003 (68 FR 36772), the Department of Defense announced closed meetings of the Defense Science Board Task Force on Enabling Joint Force Capabilities. The August 26, 2003, meeting has moved to September 8, 2003. The Task Force will meet at SAIC, 4001 N. Fairfax Drive, Arlington, VA.

Dated: July 11, 2003.
Patricia L. Toppings,
Alternate OSD Federal Register Liaison Officer, Department of Defense.

[FR Doc. 03-18651 Filed 7-22-03; 8:45 am]

BILLING CODE 5001-08-M